DEPARTMENT OF LABOR

Employment and Training Administration

[TA-W-65,558]

Hon Company-HNI, Owensboro, KY; Notice of Termination of Investigation

Pursuant to Section 221 of the Trade Act of 1974, as amended, an investigation was initiated on March 11, 2009 in response to a worker petition filed by the United Steelworkers, Amalgamated Local 9443 Unit 06 on behalf of workers of Hon Company—HNI, Owensboro, Kentucky.

The petitioner has requested that the petition be withdrawn. Consequently, the investigation has been terminated.

Signed at Washington, DC, this 23rd day of March 2009.
Linda G. Poole,
Certifying Officer, Division of Trade Adjustment Assistance.

[FR Doc. E9-8298 Filed 4-10-09; 8:45 am]

BILLING CODE 4510-FN-P